FEDERAL TRADE COMMISSION

Agency Information Collection Activities; Submission for OMB Review; Comment Request; Extension

AGENCY: Federal Trade Commission.

ACTION: Notice and request for comment.

SUMMARY: The FTC requests that the Office of Management and Budget (OMB) extend for three years the current Paperwork Reduction Act (PRA) clearance for information collection requirements contained in the agency's Mail, internet, or Telephone Order Merchandise Rule (MITOR or Rule). That clearance expires on August 31, 2025.

DATES: Comments must be filed by September 11, 2025.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function.

FOR FURTHER INFORMATION CONTACT: Michelle Schaefer, Attorney, Division of Enforcement, Bureau of Consumer Protection, Federal Trade Commission, Mail Code CC-6316, 600 Pennsylvania Avenue NW, Washington, DC 20580, (202) 326-3515.

SUPPLEMENTARY INFORMATION:

Title of Collection: Mail, internet, or Telephone Order Merchandise Rule (MITOR or Rule), 16 CFR part 435.

OMB Control Number: 3084-0106.

Type of Review: Extension of currently approved collection.

Affected Public: Businesses engaged in the sale of merchandise by mail, internet or telephone.

Estimated Annual Burden Hours: 4,003,250 hours [(68,358 established businesses × 50 hours) + (2,545 new entrants × 230 hours)].

Estimated Annual Labor Costs: $104,084,500 (4,003,250 hours × $26.00/hour).¹

¹ The hourly wage rates for sales and related workers are based on the hourly mean wage rates provided by the Bureau of Labor Statistics. See U.S. Bureau of Labor Statistics, Occupational Employment and Wages—May 2024, table 1 (“National employment and wage data from the Occupational Employment Statistics survey by occupation”), released April 2, 2025, https://www.bls.gov/news.release/ocwage.htm.

Estimated Annual Non-Labor Costs: $0.

Abstract: Generally, the MITOR requires a seller (or merchant) to: (1) have a reasonable basis for any express or implied shipment representation made in soliciting the sale (if no express time period is promised, the implied shipment representation is 30 days); (2) notify the buyer (or consumer) and obtain the buyer's consent to any delay in shipment; and (3) make prompt and full refunds when the buyer exercises a cancellation option or the seller is unable to meet the Rule's other requirements.

Request for Comment

On April 25, 2025, the FTC sought public comment on the information collection requirements associated with the Rule. 90 FR 17436 (Apr. 25, 2025) (“April 2025 Notice”). The Commission received one germane comment. The commenter suggested that the OMB control number for this collection was improperly changed in violation of OMB's regulations. However, the OMB control number (3084-0106) for this collection has not changed since it was initially approved. In regard to the commenter's statement that “The Federal Trade Commission is not part of the rule making process in the OMB system as well,” ² the Commission notes that E.O. 14215 ³ requires all agencies, including independent agencies, to submit their proposed and final significant regulatory actions to OMB for review before they are published in the Federal Register. This E.O. does not apply retroactively to previously published FTC rulemaking documents or notices requesting comment on PRA collections. Thus, the commenter's concerns regarding the OMB control number for this collection (3084-0106) and the FTC's participation in E.O. 12866's OMB review process are unfounded.

² Kelly Moore Cmt. on FTC Agency Information Collection Activities; Proposed Collection; Comment Request; Extension, Jun. 24, 2025, https://www.regulations.gov/comment/FTC-2025-0032-0012.

³ E.O. 14215, Ensuring Accountability for All Agencies, 90 FR 10477 (Feb. 24, 2025).

This commenter also referenced contractual burdens created by the need for consent from telephone orders, and the cost to taxpayers created by these burdens since 1995. The specific relevance of this comment in the context of renewing the Rule's Paperwork Reduction Act clearance is unclear. To the extent this commenter suggests MITOR's information collection requirements related to telephone sales create unique circumstances because of the “need for consent,” the Rule does not require extra consent just because orders are placed over the phone. It does, however, require consent to delays and post-sale changes—which applies equally to mail, phone, and online orders.⁴ Therefore, telephone orders do not create exceptional circumstances that would impact the FTC's analysis seeking renewal of pre-existing clearance for the Rule.

⁴ There is no requirement in MITOR that a customer affirmatively consent before placing any order, be it through the telephone, mail, or internet. For telephone sales, like any distance sale, the seller must be clear about the delivery timeframe at point of sale. At the time of sale, sellers must have a reasonable basis to expect they can ship the goods within the advertised time or within 30 days if no time is stated. 16 CFR 435.2(a)(1). Consent comes into play after purchase if there are delays and customers must be notified and agree to wait or cancel. 16 CFR 435.2(b).

Pursuant to OMB regulations, 5 CFR part 1320, that implement the PRA, 44 U.S.C. 3501 et seq., the FTC is providing this second opportunity for public comment while seeking OMB approval to renew the pre-existing clearance for the Rule. For more details about the Rule's requirements and the basis for the calculations summarized above, see 90 FR 17436.

Your comment—including your name and your state—will be placed on the public record of this proceeding. Because your comment will be made public, you are solely responsible for making sure that your comment does not include any sensitive personal information, such as anyone's Social Security number; date of birth; driver's license number or other state identification number or foreign country equivalent; passport number; financial account number; or credit or debit card number. You are also solely responsible for ensuring that your comment does not include any sensitive health information, such as medical records or other individually identifiable health information. In addition, your comment should not include any “trade secret or any commercial or financial information which is . . . privileged or confidential”—as provided in Section 6(f) of the FTC Act, 15 U.S.C. 46(f), and FTC Rule 4.10(a)(2), 16 CFR 4.10(a)(2)—including, in particular, competitively sensitive information, such as costs, sales statistics, inventories, formulas, patterns, devices, manufacturing processes, or customer names.

Josephine Liu,
Assistant General Counsel for Legal Counsel.

[FR Doc. 2025-15316 Filed 8-12-25; 8:45 am]

BILLING CODE 6750-01-P